DEPARTMENT OF TRANSPORTATION

Federal Aviation Administration

14 CFR Part 39

[Docket No. FAA-2011-0079; Directorate Identifier 2010-SW-108-AD; Amendment 39-16587; AD 2010-26-51]

RIN 2120-AA64

Airworthiness Directives; Bell Helicopter Textron Canada Limited (BHTC) Model 206A, 206B, 206L, 206L-1, 206L-3, 206L-4, 222, 222B, 222U, 230, 407, 427, and 430 Helicopters

AGENCY: Federal Aviation Administration, DOT.

ACTION: Final rule; request for comments.

SUMMARY: This document publishes in the Federal Register an amendment adopting Emergency Airworthiness Directive (AD) 2010-26-51, which was sent previously to all known U.S. owners and operators of the specified model helicopters by individual letters. This AD also supersedes existing AD 2009-08-03. This AD is prompted by another incident in which the tail rotor blade (blade) tip weight separated from a blade during flight causing vibration. This unsafe condition led to the determination that additional blades could be affected and should be added to the applicability. The actions specified by this AD are intended to prevent loss of the blade tip weight, loss of a blade, and subsequent loss of control of the helicopter.

DATES: Effective March 25, 2011, to all persons except those persons to whom it was made immediately effective by Emergency AD 2010-26-51, issued on December 8, 2010, which contained the requirements of this amendment.

The incorporation by reference of certain publications listed in the regulations is approved by the Director of the Federal Register as of March 25, 2011.

Comments for inclusion in the Rules Docket must be received on or before May 9, 2011.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Bell Helicopter Textron Canada Limited, 12,800 Rue de l'Avenir, Mirabel, Quebec J7J1R4, telephone (450) 437-2862 or (800) 363-8023, fax (450) 433-0272, or at http://www.bellcustomer.com/files/.

Examining The Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Sharon Miles, Aviation Safety Engineer, Rotorcraft Directorate, Regulations and Policy Group, 2601 Meacham Blvd., Fort Worth, Texas 76137, telephone (817) 222-5122, fax (817) 222-5961.

SUPPLEMENTARY INFORMATION: On March 26, 2009, the FAA issued AD 2009-08-03, Amendment 39-15876 (74 FR 16112, April 9, 2009). AD 2009-08-03 requires, before further flight, removing and replacing each affected blade with an airworthy blade. That action was prompted by three reports of blade tip weights being slung from the blades during flights, causing significant vibration.

Since issuing AD 2009-08-03, BHTC has revised the Alert Service Bulletins (ASBs) based on revisions to the Rotor Blades Inc. (RBI) documents that are attached to the ASBs. All of the ASBs contain a letter from RBI indicating that RBI has received a fourth blade in which one tip weight was lost in flight. This prompted RBI to add additional blade serial numbers that could be affected. RBI asked BHTC to re-issue the affected ASBs calling for immediate inspection of the affected blades. This condition, if not corrected, could result in loss of the blade tip weight, loss of a blade, and subsequent loss of control of the helicopter.

Related Service Information

We have reviewed the following revised BHTC ASBs, all dated November 29, 2010. Each ASB contains an RBI letter that adds blade serial numbers to the RBI list.

• No. 206-07-116, Revision B, for Model 206A/B series helicopters;

• No. 206L-07-148, Revision B, for Model 206L series helicopters;

• No. 222-07-106, Revision D, for Model 222 and 222B helicopters;

• No. 222U-07-77, Revision D, for Model 222U helicopters;

• No. 230-07-38, Revision D, for Model 230 helicopters;

• No. 407-07-81, Revision B, for Model 407 helicopters;

• No.427-07-18, Revision B, for Model 427 helicopters;

• No. 430-07-41, Revision D, for Model 430 helicopters.

Transport Canada, the airworthiness authority for Canada, notified the FAA that an unsafe condition may exist on these helicopter models. Transport Canada advises of three reports of blade weights departing from the blades during flight due to missing weight screws and that the failure can occur at any time leading to loss of control of the helicopter. Transport Canada advises since issuing its original AD, the blade manufacturer has determined that a batch of additional blades could be affected. Transport Canada classified the ASBs as mandatory and issued revised AD No. CF-2007-21R1, dated November 30, 2010, to extend the applicability of the AD to cover the affected blades to ensure the continued airworthiness of these helicopters.

FAA's Evaluation and Unsafe Condition Determination

These helicopters have been approved by the aviation authority of Canada and are approved for operation in the United States. Pursuant to our bilateral agreement, Transport Canada has notified us of the unsafe condition described in the Transport Canada AD. We are issuing this AD because we evaluated all information provided by Transport Canada and determined the unsafe condition exists and is likely to exist or develop on other helicopters of these same type designs.

Since the unsafe condition is likely to exist or develop on other helicopters of these same type designs, this AD requires, before further flight, unless already accomplished, replacing any affected blade with an airworthy blade. An airworthy blade is one that has a part number and a serial number that is not listed in the RBI document that is attached to each ASB listed in the Applicability section of this AD.

Differences Between This AD and the Transport Canada AD

This AD differs from the Transport Canada AD in that this AD only applies to those blades listed in the RBI document attached to the ASBs. The Transport Canada AD allows use of those ASBs or later revisions approved by the Chief, Continuing Airworthiness, Transport Canada.

FAA's Determination and Requirements of This AD

This unsafe condition is likely to exist or develop on other helicopters of the same type design. Therefore, this AD is being issued to prevent loss of the blade tip weight, loss of a blade, and subsequent loss of control of the helicopter.

The short compliance time involved is required because the previously described critical unsafe condition can adversely affect the controllability of the helicopter. Therefore, replacing each affected blade with an airworthy blade is required before further flight, and this AD must be issued immediately.

Since it was found that immediate corrective action was required, notice and opportunity for prior public comment thereon were impracticable and contrary to the public interest, and good cause existed to make the AD effective immediately by individual letters issued on December 8, 2010 to all known U.S. owners and operators of the specified helicopters. These conditions still exist, and the AD is hereby published in the Federal Register as an amendment to 14 CFR 39.13 to make it effective to all persons.

Costs of Compliance

We estimate that this AD will affect 3,741 helicopters of U.S. registry, and it will take approximately 2.0 work hours per helicopter to replace and track-and-balance any affected blade. At an average labor rate of $85 per work hour, this is a cost per helicopter of $170. The RBI letter contains a warranty statement which states that owners or operators of Bell helicopters “who comply with the instructions in this bulletin will be eligible to return defective blades identified by serial number in the compliance section of this bulletin to your nearest RBI facility for inspection and repair at no cost.” Based on these figures, we estimate the total cost impact of the AD on U.S. operators to be $635,970.

Comments Invited

This AD is a final rule that involves requirements that affect flight safety and was not preceded by notice and an opportunity for public comment; however, we invite you to submit any written data, views, or arguments regarding this AD. Send your comments to an address listed under ADDRESSES. Include “Docket No. FAA-2010-XXXX; Directorate Identifier 2010-SW-108-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-26-51 Bell Helicopter Textron Canada Limited: Amendment 39-16587. Docket No. FAA-2011-0079; Directorate Identifier 2010-SW-108-AD.

Applicability: Model 206A, 206B, 206L, 206L-1, 206L-3, 206L-4, 222, 222B, 222U, 230, 407, 427, and 430 helicopters, with a tail rotor blade (blade) having a part number and serial number, installed, as listed in the Rotor Blades Inc. (RBI) document attached to the following Bell Helicopter Textron Alert Service Bulletins (ASBs), certificated in any category:

ASB No. | Revision | Date | Helicopter model
206-07-116 | B | November 29, 2010 | 206A and 206B Series.
206L-07-148 | B | November 29, 2010 | 206L, L-1, L-3, and L-4.
222-07-106 | D | November 29, 2010 | 222 and 222B.
222U-07-77 | D | November 29, 2010 | 222U.
230-07-38 | D | November 29, 2010 | 230.
407-07-81 | B | November 29, 2010 | 407.
427-07-18 | B | November 29, 2010 | 427.
430-07-41 | D | November 29, 2010 | 430.

Compliance: Before further flight, unless accomplished previously.

To prevent loss of a blade tip weight, loss of a blade, and subsequent loss of control of the helicopter, do the following:

(a) Replace any affected blade with an airworthy blade. An airworthy blade is one that has a part number and a serial number that is not listed in the RBI document attached to each ASB listed in the Applicability section of this AD.

(b) To request a different method of compliance or a different compliance time for this AD, follow the procedures in 14 CFR 39.19. Contact the Manager, Safety Management Group, FAA, ATTN: Sharon Miles, Aviation Safety Engineer, Rotorcraft Directorate, Regulations and Policy Group, 2601 Meacham Blvd., Fort Worth, Texas 76137, telephone (817) 222-5122, fax (817) 222-5961, for information about previously approved alternative methods of compliance.

(c) Special flight permits will not be issued.

(d) The Joint Aircraft System/Component (JASC) Code is: 6410—Tail Rotor Blades.

(e) Determine the affected part number and serial number by referring to the RBI document attached to the following Bell Helicopter Textron Alert Service Bulletins, all dated November 29, 2010:

Alert Service Bulletin No. | Revision
206-07-116 | B
206L-07-148 | B
222-07-106 | D
222U-07-77 | D
230-07-38 | D
407-07-81 | B
427-07-18 | B
430-07-41 | D

The Director of the Federal Register approved this incorporation by reference in accordance with 5 U.S.C. 552(a) and 1 CFR part 51. Copies may be obtained from Bell Helicopter Textron Canada Limited, 12,800 Rue de l'Avenir, Mirabel, Quebec J7J1R4, telephone (450) 437-2862 or (800) 363-8023, fax (450) 433-0272, or at http://www.bellcustomer.com/files/. Copies may be inspected at the FAA, Office of the Regional Counsel, Southwest Region, 2601 Meacham Blvd., Room 663, Fort Worth, Texas or at the National Archives and Records Administration (NARA). For information on the availability of this material at NARA, call 202-741-6030, or go to: http://www.archives.gov/federal_register/code_of_federal_regulations/ibr_locations.html.

(f) This amendment becomes effective on March 25, 2011, to all persons except those persons to whom it was made immediately effective by Emergency AD 2010-26-51, issued December 8, 2010, which contained the requirements of this amendment.

Note: The subject of this AD is addressed in Transport Canada (Canada) AD CF-2007-21R1, dated November 30, 2010.

Issued in Fort Worth, Texas, on January 14, 2011.
Kim Smith,
Manager, Rotorcraft Directorate, Aircraft Certification Service.

[FR Doc. 2011-4465 Filed 3-9-11; 8:45 am]

BILLING CODE 4910-13-P